DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 87 FR 36133, dated June 15, 2022) is amended to reflect the reorganization of the staff offices within the Office of the Director, Centers for Disease Control and Prevention (CDC). This reorganization approved by the Director, CDC, on July 5, 2022, will streamline the current organizational structure, improve the overall employee/supervisor ratio, eliminate workflow inefficiencies, and improve customer service.

I. Under Part C, Section C-B, Organization and Functions, the following organizational units are deleted in its entirety:

• Population Health and Healthcare Office (CAQE)

• Public Private Partnerships Activity (CAT14)

• Office of Communication Science (CAU13)

• Division of Public Affairs (CAUB)

• Office of the Director (CAUB1)

• Digital Media Branch (CAUBB)

• News Media Branch (CAUBC)

• External and Employee Relations Branch (CAUBD)

• Division of Communication Services (CAUD)

• Office of the Director (CAUD1)

• Broadcast Services Branch (CAUDB)

• Graphics Services Branch (CAUDC)

• CDC-INFO and Print Services Branch (CAUDD)

• Minority Health and Health Equity (CBE12)

• Diversity and Inclusion Management Program (CBEC)

II. Under Part C, Section C-B, Organization and Functions, make the following change:

• Update the functional statement for the CDC Washington Office (CAB)

• Establish the Office of the Associate Director for Global Health Diplomacy and Strategy (CAE)

• Establish the Office of the Director (CAE1)

• Establish the Division of Diplomacy, Policy, and External Partner Engagement (CAEB)

• Establish the Division of Global Health Strategic Planning and Coordination (CAEC)

• Establish the Division of Regional Engagement and Coordination (CAED)

• Update the functional statement for the Strategic Business Initiatives Unit (CAJ13)

• Retitle the Policy, Research, Analysis, and Development Office to the Office of Policy Analytics and Population Health (CAQB)

• Update the functional statement for the Office of the Chief of Staff (CAT)

• Update the functional statement for the Office of the Director (CAT1)

• Retitle the Meeting and Advance Team Management Activity to the Advance Team Activity (CAT12)

• Update the functional statement for the Budget and Operations Management Activity (CAT13)

• Establish the Policy, Performance, and Communications Activity (CAT16)

• Retitle the Division of Issues Management, Analysis and Coordination (CATC) to the Office of the Executive Secretariat (CATC)

• Update the functional statements for the Office of the Associate Director for Communication (CAU)

• Update the functional statement for the Office of the Director (CAU1)

• Establish the Office of Internal Communication and Engagement (CAU14)

• Establish the Office of External Engagement (CAU15)

• Establish the Office of Management and Operations (CAU16)

• Establish the Division of Communication Science and Services (CAUE)

• Establish the Office of the Director (CAUE1)

• Establish the Communication Science Branch (CAUEB)

• Establish the Communication Support and Services Branch (CAUEC)

• Establish the Division of Digital Media (CAUG)

• Establish the Office of the Director (CAUG1)

• Establish the Enterprise Technology Branch (CAUGB)

• Establish the Visual Design Branch (CAUGC)

• Establish the Content and Engagement Branch (CAUGD)

• Establish the Division of Media Relations (CAUH)

• Establish the Office of the Director (CAUH1)

• Establish the Media Support Branch (CAUHB)

• Establish the Broadcast and Multimedia Branch (CAUHC)

• Retitle the Office of Equal Employment Opportunity to the Office of Equal Employment Opportunity and Workplace Equity (CAV)

• Establish the Minority Health and Health Equity Program (CBED)

II. Under Part C, Section C-B, Organization and Functions, insert the following:

• CDC Washington Office (CAB). Directs and manages CDC interactions with Congress; (2) develops and executes legislative strategies; (3) collaborates with the Office of the Chief Operating Officer to develop and execute strategies in Congress that advance CDC appropriations priorities; (4) builds congressional relationships; (5) tracks and analyzes legislation; (6) develops strategy and leads response to congressional, Government Accountability Office (GAO), and Office of Inspector General (OIG) oversight; (7) builds relationships with government agencies and other organizations to advance agency priorities, with an emphasis on federal agencies; (8) protects and advances the agency's reputation, scientific credibility, and interests; (9) informs CDC leadership of current developments and provides insight into the Washington policy environment; (10) coordinates DC-area assignees and helps maximize their impact in supporting the agency's strategies and priorities; and (11) coordinates CDC's partnership activities as they relate to Washington-based, or Washington-focused organizations, and works across the agency to advance those relationships.

• Office of the Associate Director for Global Health Diplomacy and Strategy (CAE). The mission of the Office of the Associate Director for Global Health Diplomacy and Strategy is to advise and represent the CDC Director on agency-wide global health strategies and coordinate agency-wide policies and priorities focused on achieving maximum public health impact in support of the agency mission. CDC's mission is to protect Americans from health, safety, and security threats, whether originating domestically or abroad, and the global health mission to improve and protect the health, safety, and security of Americans while reducing morbidity and mortality worldwide. This office: (1) advises CDC leadership in developing agency-wide global health and health security policies, programs, and strategies; (2) provides health diplomacy leadership to foster critical global relationships for CDC within and outside of the U.S. government (USG); (3) serves as the agency's global health representative throughout the USG and globally; (4) coordinates and supports diplomatic and strategic partner engagements across CDC, ensuring input and representation across relevant Centers, Institute, and Offices (CIOs) and programs; and (5) leads cross-CIO coordination to monitor and evaluate programs to measure progress toward USG global health and national security objectives.

• Office of the Director (CAE1). (1) Manages, directs, and evaluates Office of the Associate Director for Global Health Diplomacy and Strategy (OADGHDS) activities; (2) provides strategic advice to CDC leadership on agency direction and drives CDC to increase global health impact and health security; (3) leads the development of agency-wide global health strategies and coordinates policies and priorities; (4) leads the overall coordination of CDC global health security resources and ensures evaluation of their impact; (5) determines CDC's strategic regional engagement priorities for global health and health security; (6) supports communication needs of OADGHDS and the regional platforms; (7) coordinates CDC's global health communication strategy and public affairs media response across global health programs; (8) communicates with CDC budget and operations personnel on cross-cutting functions; (9) coordinates office budget development, implementation, tracking, and reporting; (10) oversees administrative functions such as strategic recruitment, personnel actions, training and employee development, space requests and allocation, procurement, and distribution of equipment and supplies; and (11) manages temporary staff in the office, including those on details or Intergovernmental Personnel Actions.

• Division of Diplomacy, Policy and External Partner Engagement (CAEB). (1) Manages global health and health security policy across CDC's global health programs by providing leadership, coordination, and awareness of CDC's global health and health security partnership and policymaker engagement strategy; (2) supports the Associate Director to lead agency-wide global health strategic and policy engagement; (3) coordinates diplomatic, partner, and policy engagements; (4) builds capacity throughout CDC for global engagement and health diplomacy to support the global health strategy; (5) establishes and maintains strategic partnerships at the leadership level with key organizations, government agencies, and individuals working on global health and health security; (6) develops and prepares congressional testimony, bill reports, and responses to requests for information; (7) coordinates cross-agency global health issues management; (8) supports engagement with regional platforms for policy, strategy and partnership; (9) coordinates cross-agency, high-profile visits and visits to field offices; (10) manages and tracks memorandums of understanding; (11) provides strategic leadership, direction, management, and policy guidance representing CDC's global interests with the United Nations/World Health Organization, HHS, the Department of Defense, the United States Agency for International Development, the Department of State, and other international or USG organizations; (12) advises CDC leadership on the status and impact of policies, potential policies (such as legislation or administration directives), or other highly visible actions likely to influence key strategic partner organizations; (13) ensures strategic representation of CDC and USG global health and health security interests in various required venues and in strategy and collaborations with CIOs; and (14) supports the Associate Director or other senior leaders when representing CDC or the CDC Director in high-level diplomatic and strategic policy engagements (including with regional and country directors).

• Division of Global Health Strategic Planning and Coordination (CAEC). (1) Advises the Associate Director and senior leadership on programmatic strategy; (2) develops and monitors a CDC global health strategy and regional strategies; (3) provides direction, standards, and technical assistance for resource planning, performance, and accountability; (4) responsible for coordination and accountability for CDC's global health resource portfolio (including high-level financial tracking, spend plan development and oversight, monitoring, staffing, and reporting); (5) provides leadership and facilitation across CIOs, country offices and regional offices for agency-level global health, monitoring and evaluation activities and reporting, including health security; (6) facilitates and coordinates across CIOs, programs, country and regional offices, ensuring that agency global health projects are complementary and effective; (7) organizes short- and long-term strategic planning activities for regions; (8) facilitates information sharing between programs and CDC leadership, regional offices, and country offices; (9) supports tracking of impact, deliverables and analyses of overarching global health work (including supplemental activities) at agency level; and (10) coordinates special initiative funding, activities, and reporting within the office.

• Division of Regional Engagement and Coordination (CAED). (1) Represents the CDC Director's priorities for global health strategy at a regional level; (2) works closely with CIOs to ensure strategic alignment of regional programs and activities; (3) collaborates with staff in U.S. missions and other partners to establish regional offices; (4) supports management and operations of the regional offices, including budget and staffing resource planning; (5) develops short- and long-term strategies based on regional health threats, in accordance with CDC global and regional priorities, strategies, and resources; (6) builds and strengthens relationships with key partners throughout the region and at CDC headquarters; and (7) at a regional level, serves as liaison between CDC leadership in the Unites States and overseas and international partners, including other USG agencies, high-ranking officials of foreign governments, public health agencies, multilateral organizations, and non-governmental organizations.

• Strategic Business Initiatives Unit (CAJ13). (1) Evaluates and conducts agency-wide enterprise risk monitoring and management; (2) develops and executes the annual Federal Managers' Financial Integrity Act program review; (3) conducts special reviews and appraises the adequacy and effectiveness of agency-wide practices and operations; (4) coordinates responses to the OIG hotline and other agency special reviews; (5) administers the Federal Advisory Committee Act program; (6) develops, coordinates, and formalizes CDC operational policies; (7) oversees the agency's records management program; (8) manages CDC's delegations of authority and organizational structures and functions; and (9) serves as the representative for the CDC Gift Review Panel.

• Office of Policy Analytics and Population Health (CAQB). (1) Serves CDC by amplifying the work of, with, and on behalf of the CDC Director, the Office of the Associate Director for Policy and Strategy Director (OADPS), and CIOs to accelerate improved population health, healthcare, and evidence-based policy analytics to inform decision-making; (2) focuses on building, scanning, assessing, leveraging, and translating evidence for the integration of policy, population health and health equity, and healthcare interventions; (3) strategically engages and collaborates with CDC CIOs and divisions, federal agencies, and other partner organizations to accelerate the uptake of evidence-based policy interventions across community settings and health systems (payers, providers, and purchasers); (4) supports CDC CIOs and divisions in analyzing policy strategies by considering broad implications, interactions, and unintended consequences while integrating policy and legal scans, health outcomes data, systems thinking, and economic analyses to determine what works for improving public health; (5) builds capacity agency-wide and externally for working in population health, healthcare, and evidence-based public health policy while ensuring that CDC staff have the skills needed to both analyze health and economic impacts of policy interventions and use those findings to inform programs' public health goals; (6) translates knowledge for policy, population health, and healthcare evidence by synthesizing, adapting, and distilling findings into actionable, practical, and understandable tools, resources, and messages for the intended audiences and decision-makers; (7) leads and supports the policy clearance process to increase awareness among CDC staff about what comprises evidence-based policy content and how to communicate effectively about policy and regulations related to health and healthcare; (8) supports priority topics, activities, and initiatives of the CDC Director, OADPS, and cross-CIO efforts with key internal and external entities (both federal and non-federal); and (9) applies innovative techniques to gain insights while identifying new population health and healthcare leadership strategies and elevating new policy approaches by considering equitable approaches, engaging untapped sectors, skills/capacities, analytic approaches, data, and methods.

• Office of the Chief of Staff (CAT). The Office of the Chief of Staff (OCoS) is accountable for providing strategic advice to the CDC Director and ensures proactive coordination of agency-wide priorities and policies in direct support of CDC's mission. The OCoS: (1) serves as the principal advisor to the CDC Director on internal and external affairs; (2) convenes key leadership for assessment, management, mitigation options, and resolution of issues and initiatives affecting CDC's priorities and goals; (3) provides information to senior management, as necessary, to make timely strategic and operational decisions; (4) assists in assuring that CDC viewpoints are appropriately represented in decision making processes; (5) supports leadership in the resolution of issues; (6) assists in determining CDC objectives and priorities; (7) provides a conduit for background information and updates on controversial or sensitive issues; (8) serves as one of the CDC Director's primary strategic liaisons with staff, partners, and the community at large; and (9) represents the Office of the Director on councils or CDC peer organizations, as well as with high ranking officials outside CDC, HHS, the Office of Management and Budget, and the White House.

• Office of the Director (CAT1). (1) Directs, manages, and coordinates the activities of the Office of the Chief of Staff; (2) provides leadership and direction to the Immediate Office of the Director; (3) oversees functions of the office; (4) develops goals and objectives, provides leadership, policy formation, oversight, communication support, and guidance in planning and implementation; (5) manages, prepares for, and conducts executive and senior level meetings, while identifying, triaging, supervising, and tracking subsequent action items; (6) serves as primary point of contact for the CDC Foundation including engagement of CDC leadership and coordination of key priorities; (7) oversees operational activities related to the Advisory Committee to the Director and its subcommittees and workgroups; (8) serves as the OD liaison during a CDC Emergency Operations Center (EOC) activation; (9) establishes and maintains visible and accessible communication opportunities across CDC and with the private sector; and (10) leads special projects for the CDC leadership team.

• Advance Team Activity (CAT12). (1) Coordinates and manages the CDC Director's schedule and travel and manages briefing materials; (2) participates in the development of CDC's strategies, priority areas, goals and objectives; (3) coordinates key partner requests for the CDC Director and senior leadership appearances at board meetings, special events, speaking engagements, and other external events; (4) maintains relationships with HHS and White House officials; and (5) manages special events and high-level visits.

• Budget and Operations Management Activity (CAT13). (1) Meets with CDC budget and operations personnel on cross-cutting functions on behalf of the OCoS; (2) coordinates the development, implementation (including spending plan) tracking, and reporting of the OCoS budget; and (3) executes administrative functions for the Immediate Office of the Director and Office of the Chief of Staff, including strategic recruitment, personnel and performance actions, training and employee development, travel, space requests and allocation, and procurement and distribution of equipment and supplies.

• Policy, Performance and Communication Activity (CAT16). (1) Coordinates, develops, recommends, and implements strategic planning and tracking for the Office of the Chief of Staff; (2) develops and coordinates performance management to ensure achievement of goals within the OCoS and the immediate Office of the Director; (3) participates in reviewing, coordinating, and preparing legislation, briefing documents, congressional testimony, and other legislative matters; (4) serves as primary contact for policy offices and officials across CDC; (5) coordinates the review and approval of Freedom of Information Act (FOIA) requests, GAO, and OIG reports, and related activities; (6) develops and strengthens strategic partnerships with key constituent groups; (7) facilitates communication between CDC and key partners; (8) collaborates with the CDC Office of the Associate Director for Communication on media relations, electronic communication, health media production, and brand management activities; (9) develops communication materials, including speeches, talking points, and presentations, for key officials in the OCoS and the immediate Office of the Director staff and audiences; (10) facilitates internal communication to the OCoS; and (11) executes special projects.

• Office of the Executive Secretariat (CATC). (1) Identifies and triages issues across OD in collaboration with agency leadership to ensure efficient responses to the Director's priority issues, and helps position CDC to take advantage of emerging opportunities; (2) supports key leadership in assessment, management, mitigation options, and resolution of issues and initiatives affecting CDC's priorities and goals, and ensures controlled correspondence responses and reports reflect CDC/Agency for Toxic Substances and Disease Registry's (ATSDR)'s priorities and positions on critical public health issues; (3) establishes an environmental scanning system and network throughout CDC to identify urgent and high risk issues and opportunities related to the Director's priorities and coordinates the use of the official CDC/ATSDR-controlled correspondence tracking system throughout CDC; (4) cultivates strong relationships to facilitate effective coordination across CDC and with HHS; (5) communicates findings and status of current and ongoing issues, trends, and opportunities to senior leadership, CIOs, and HHS through formal advisories, alerts, and briefings; (6) conducts final clearance and quality assurance/control of controlled correspondence, select non-scientific policy documents, and a wide variety of documents that require the approval of various officials within HHS; (7) communicates with HHS Office of the Secretary on critical issues on behalf of the OCoS and serves as the point of contact with the HHS Immediate Office of the Secretary, Executive Secretariat for status of Secretary's controlled correspondence and review/clear of non-scientific documents; (8) assists leadership in identifying regulatory priorities and supports development of regulations; (9) serves as Chief Regulatory Officer and tracks and coordinates review/clearance of regulations under development; (10) serves as CDC's point of contact for the Office of the Federal Register and the Federal Document Management System and maintains all official records relating to the decisions and official actions of the Director; (11) serves as official record keeper for the Director's correspondence and non-scientific policy documents and ensures documents are maintained according to CDC's records retention policies and transferred to the National Archives and Records Administration, according to their statutes and guidelines; (12) manages the collection of the CDC Director's correspondence and documents in response to FOIA requests; (13) develops and distributes leadership reports, including the White House/HHS Weekly Cabinet Report and weekly situation reports on emerging issues impacting HHS and the White House; and (14) manages the electronic signature of the CDC Director and other OD executives, ensures consistent application of CDC correspondence standards and styles and ensures agency training and communication updates on official correspondence for and on behalf of the CDC Director.

• Office of the Associate Director for Communication (CAU). The mission of the Office of the Associate Director for Communication (OADC) is to enhance CDC's communication impact, manage the high visibility of the agency and its senior leaders, and guide public health messaging through support to programs. The office: (1) provides leadership, direction, support, and assistance to CDC's CIOs to implement communication strategies; (2) promotes clear, accessible, and inclusive communication; (3) conducts and promotes health communication science practices to address agency priorities; (4) oversees and manages CDC interactions with news media; (5) develops strategy and oversees communication response for crisis and agency priorities; (6) strategically protects and advances CDC's reputation, credibility and interests; (7) coordinates CDC partnerships to advance communication-related relationships; (8) develops, guides, and implements internal and external public affairs strategies and activities; (9) provides leadership on all aspects of digital communications; and (10) supports or provides communication services, including but not limited to broadcast, multimedia, public information, graphics and design elements, translation, and photography.

• Office of the Director (CAU1). (1) Manages, directs, and evaluates activities of the OADC; (2) makes sure CDC communication activities comply with HHS established policies; (3) communicates the value and benefits of CDC programs; (4) leads strategic communication activities addressing agency-wide priorities; (5) provides strategic communication support for CDC's emergency responses and the Joint Information Center (JIC); (6) provides reputation-management expertise and counsel; (7) provides leadership and guidance to communicate decisions made by CDC's leadership in an efficient and clear manner; (8) coordinates with CIOs on communication activities; (9) serves as the central point of contact for Office of the Director executive communication, including enterprise communication, speaking engagements, announcements, and speeches; (10) provides communication leadership on equity, healthy equity, diversity, inclusion, and accessibility initiatives; (11) provides leadership and guidance to manage and operate OADC's programs, including the areas of fiscal management, human capital, travel, and other administrative services; (12) develops and tracks annual budget and spend plan to fulfill CDC's communication priorities; (13) serves as OADC's primary point of contact with CDC's Office of Financial Resources on contracts and budget matters; and (14) ensures communication products authored by CDC staff members or published by CDC are released for public-use in a timely manner, are of the highest quality, and are scientifically sound, inclusive, and understandable.

• Office of Internal Communication and Engagement (CAU14). (1) Establishes and implements a strategy to increase clear communication between CDC leadership and employees; (2) ensures agency initiatives are effectively communicated across employee groups; (3) provides advice on internal communication strategy to other senior leaders across the agency; (4) leads development of internal content and strategies for all employee communication channels; (5) provides communication coordination and guidance related to equity, healthy equity, diversity, inclusion, and accessibility; (6) creates and implements employee special engagement activities and events; and (7) provides agency communication to former employees and retirees.

• Office of External Engagement (CAU15). (1) Manages CDC's scientific museum and learning center, the David J. Sencer CDC Museum; (2) implements strategies to educate visitors about the value of public health through museum exhibitions, CDC's historical collection, student programs, tours, and other engagement strategies; and (3) coordinates the use of the CDC exhibit for public health conferences.

• Office of Management and Operations (CAU16). (1) Provides leadership and guidance to manage and operate OADC's programs, including the areas of fiscal management, human capital, travel, and other administrative services; (2) develops and tracks OADC's annual budget and spend plan to fulfill CDC's communication priorities; (3) serves as OADC's primary point of contact with CDC's Office of Financial Resources on contracts and budget matters; and (4) coordinates efforts for strategic workforce development, talent management, and succession planning.

• Division of Communication Sciences and Services (CAUE). (1) Promotes the scientific practice of health communication and disseminates evidence-based knowledge to practitioners of health communication, marketing, and media; (2) provides agency-wide support for communication services including photography, translation, and communication consultation/analysis leadership and support; (3) guides CIOs on applying measures of effectiveness for public health communication efforts; and (4) leads CDC's health literacy improvement work and Plain Writing Act implementation.

• Office of the Director (CAUE1). (1) Supports OADC's mission through the planning, development, implementation and evaluation of science-based health communication activities and programs; (2) serves as the principal advisor on the scientific basis for communication and marketing practice; and (3) provides leadership for ensuring communication service activities and products are of the highest quality.

• Communication Science Branch (CAUEB). (1) Promotes evidence-based health communication knowledge to practitioners of health communication, marketing, and media; (2) provides technical assistance on large or multidisciplinary projects to provide a consistent approach; (3) provides implementation for the Plain Writing Act; (4) guides, advises, and trains on plain language to make CDC health information inclusive, accessible, and understandable to audiences that may have specific health literacy and health equity needs; (5) advises on methods for gaining public input on health issues and priorities (e.g., advisory mechanisms, focus groups, polling, legislative, and media tracking); (6) manages contract resources and provides analysis relative to audience segmentation and behavior; (7) distributes health communication research to interested professionals at CDC, its partners, and other stakeholders; (8) provides consultation and analysis of consumer research data to CIOs used for developing and evaluating health communication and marketing to specific audiences; and (9) manages clearances of CDC's public-facing communication materials with HHS and other relevant government entities as necessary.

• Communication Support and Services Branch (CAUEC). (1) Provides communication consultation and support services (e.g., photography; multi-lingual translation; writing and editing); and (2) manages multi-year, multi-vendor CDC-wide communication contracts for CIOs.

• Division of Digital Media (CAUG). (1) Serves as the agency-wide lead for digital media technologies; (2) manages CDC digital media communication activities; (3) develops standards and policies for digital media including web, social media, hotlines, mobile applications, and visual design; (4) manages CDC's digital communications systems and architectures for Web, CDC-INFO, intranet, mobile sites and applications, and social media (i.e., Web Content Management System, mobile services, CDC.gov servers, search engine, content syndication); and (5) provides operations support and management for CDC's external website, intranet, CDC-INFO, and CDC's main social media channels, including CDC.gov, CDC en Español, mobile apps, CDC Connects, and emerging technologies; and (6) manages CDC visual design services products.

• Office of the Director (CAUG1). (1) Serves as the agency-wide principal advisor for digital media communication technologies through planning, development, implementation, and evaluation strategies; (2) represents CDC on HHS and other government digital councils; (3) coordinates digital activities with HHS and operating divisions digital communication staff; and (4) provides leadership and guidance on digital communication strategies to CDC leadership and the OADC Director.

• Enterprise Technology Branch (CAUGB). (1) Leads the selection, design, development, and evaluation of digital media technologies; (2) manages CDC's digital communications systems and architectures for web, intranet, CDC-INFO, mobile sites and applications, and social media (i.e., eb Content Management System, mobile services, CDC.gov servers, search engine, content syndication); (3) ensures metrics and user-centered design is part of all digital media efforts; (4) provides training and support to CIO staff using digital communication system; (5) supports use of technology to all OADC programs and offices; and (6) manages information technology governance for OADC systems and tools.

• Visual Design Branch (CAUGC). (1) Leads and coordinates agency-wide visual design activities; (2) produces digital creative material to maintain, strengthen, and expand the CDC brand across all communication channels; (3) develops and produces graphic illustrations, including scientific posters, infographics, desktop published documents, visual presentations, conference materials, brochures, fact sheets, newsletters, web-ready graphics, and exhibits; (4) provides creative direction and brand management guidance for graphics products, manages guidelines and standards for quality and consistency across the agency; and (5) optimizes visual design for digital delivery.

• Content and Engagement Branch (CAUGD). (1) Provides operations support and management for CDC's website, intranet, CDC-INFO, and CDC's main social media channels, including CDC.gov top tier, CDC en Español, mobile apps, and CDC Connects; (2) coordinates digital media governing bodies (Web Council, Social Media Council, and related Communities of Practice and workgroups); (3) provides the public with accessible, accurate, and credible health information through multiple channels; (4) ensures web, social media, and CDC-INFO call center activities adhere to best practices for quality assurance, customer satisfaction, performance, and health impact; (5) provides 24/7 surge support for web, social media and the 1-800 call center for public health emergencies and establishes policies and procedures with the EOC and JIC; and (6) analyzes digital platform data to inform communication planning and programs throughout the agency.

• Division of Media Relations (CAUH). (1) Provides agency-wide strategy, implementation and evaluation of news media and broadcast services; (2) provides content, policy review, and clearance of news media materials with HHS including but not limited to press releases, statements, rollout plans, press kits, talking points, letters to editors, and fact sheets; (3) manages and responds to news media requests for access to CDC, its subject matter experts, reports, and publications; (4) provides leadership and guidance for external public relations strategies; (5) provides leadership, technical assistance, and consultation in risk communication and reputational management; (6) ensures broadcast functionality/broadcast engineering support for CDC initiatives and continuity of operations; (7) develops and disseminates video and audio production; (8) supports new multimedia communication channels (e.g. HHS TV, CDC TV, radio/TV broadcast, podcast, webcast, and videos-on-demand) for CDC programs; and (9) provides support for broadcast delivery press conferences and media interviews.

• Office of the Director (CAUH1). (1) Develops the strategic priorities and manages the program activities of the division; (2) leads the agency's media relations and broadcast activities; (3) provides guidance and recommendations on effective use of news media to CDC's director, leadership, and CIOs; (4) coordinates messaging and rollouts for major announcements; (5) collaborates and coordinates with other federal organizations and external stakeholders on media relations and broadcast services; (6) establishes and maintains strategic partnerships with key organizations and individuals working on public health policies and programs; and (7) serves as liaison on news and digital media policies, procedures, and clearances to HHS' Office of Assistant Secretary for Public Affairs.

• Media Support Branch (CAUHB). (1) Provides leadership in the development and use of news media strategies and practices; (2) obtains HHS clearance of news media materials for media outlets and the public (including, but not limited to, press releases, statements, rollout plans, press kits, talking points, letters to editors, and fact sheets); (3) provides media relations strategy, monitoring, and support for CDC leadership; (4) promotes health information to the public through various channels, including digital channels to reach the news media; (5) manages and responds to news media requests for access to CDC subject matter experts, reports, and publications; (6) works with CIOs to identify news media opportunities and responds to issues that arise; (7) provides news media/spokesperson training and technical assistance to CDC staff; (8) supports messaging and rollouts for major announcements; and (9) develops and supports long lead media opportunities and responds to requests.

• Broadcast and Multimedia Branch (CAUHC). (1) Develops and produces audio, video, and multimedia health information products; (2) provides CDC with global communication capacity for high-definition broadcast, webcast, and emerging social and health media delivery channels; (3) supports the EOC to provide response capacity and capability for emergency broadcasts; (4) develops and delivers health information broadcast programs, including podcasts, CDC-TV and other channels for the public, in coordination with HHS; (5) creates and produces communication using new forms of social and electronic media; (6) collaborates with other areas of CDC to review and recommend potential audio and video technology; and (7) develops distance education, health communication, and training products to reach public health partners and professionals.

• Office of Equal Employment Opportunity and Workplace Equity (CAV). The Office of Equal Employment Opportunity and Workplace Equity (OEEOWE) is located in the Office of the Director and serves as the principal advisor to the CDC Director on all equal employment opportunity matters. The mission is to ensure an environment that promotes equal employment opportunity for all individuals, eradicates discrimination and harassment in all forms, and promotes an inclusive environment that empowers employees to participate and support CDC's global health mission. In carrying out its mission, OEEOWE: (1) develop and recommend CDC-wide equal employment opportunity policies, goals, and priorities to carry out the directives of the Office of Personnel Management, Equal Employment Opportunity Commission, and HHS equal employment opportunity policies and requirements, mandated by Title VII, Civil Rights Act of 1964; Age Discrimination in Employment Act; Rehabilitation Act of 1973; Civil Service Reform Act; 29 CFR 1614, Federal Sector Equal Employment Opportunity; Executive Order 11478, Equal Employment Opportunity in the Federal Government; (2) provides leadership, direction, and technical guidance to CDC managers and staff for the development of comprehensive programs and plans; (3) coordinates and evaluates equal employment opportunity operations and plans, including on affirmative action; (4) develops plans, programs, and procedures to assure the prompt receipt, investigation, and resolution of complaints of alleged discrimination by reason of race, sex, color, religion, disability, national origin, age, or by reason of reprisal or retaliation; (5) coordinates the development of comprehensive special emphasis programs to assure ensure equal opportunity for employment, promotion, and training for all segments of the workforce; (6) identifies needs for OEEOWE functions within CDC and assures the development of a training curriculum for CDC supervisory personnel; (7) prepares or coordinates the preparation of reports and analyses designed to reflect the status of employment of women and minorities at CDC and communicates with HHS and other organizations concerned with equal employment opportunity; (8) ensures effective coordination of activities with CDC personnel and training programs; (9) develops a system of structured reviews and evaluations of activities to assure effective operations and accountability; (10) assists in assuring the adequate allocation of resources including the establishment of guidelines for recruiting, selection, and training of agency personnel; (11) develops and directs research and evaluation studies to focus on and improve the effectiveness of program activities; (12) provides direction for the agency's alternative dispute resolution activities; (13) provides direct support for program activities; (14) provides and coordinates leadership for diversity, equity, inclusion, and accessibility issues; and (15) ensures diversity, equity, inclusion, and accessibility policies, procedures and practices are in compliance with relevant laws, regulations, executive orders, etc., and supports employees in reaching their full potential so that they may better accomplish CDC's mission and be effective guardians of public health.

• Minority Health and Health Equity Program (CBED). Minority Health and Health Equity Program will: (1) provide scientific, programmatic, policy, partnership, and systems change leadership to reduce and eliminate health disparities among populations who are underserved; (2) enhance the overall health of the American public by reducing the burden of preventable disease, illness, and injury through initiatives geared toward people from racial and ethnic minority groups within and outside of the United States; (3) address interconnections among social categories such as race/ethnicity, gender, class, and national origin that create overlapping systems of advantage and disadvantage linked to health disparities; (4) facilitate the implementation of policies across CDC that promote the elimination of health disparities, expand access to vital conditions for health and well-being, and advance health equity; (5) assure implementation of proven strategies across CDC programs that reduce health disparities in communities of highest risk; (6) advance the science and practice of health equity; and (7) collaborate with state, tribal, local, territorial, national, and global partners to promote the reduction of health inequalities.

III. Delegations of Authority: All delegations and redelegations of authority made to officials and employees of affected organizational components will continue pending further redelegation, provided they are consistent with this reorganization.

(Authority: 44 U.S.C. 3101)

Robin D. Bailey Jr.,
Chief Operating Officer, Centers for Disease Control and Prevention.

[FR Doc. 2022-15156 Filed 7-14-22; 8:45 am]

BILLING CODE 4163-18-P